DEPARTMENT OF DEFENSE

Office of the Secretary

Proposed Collection; Comment Request

AGENCY: Department of Defense, Office of the Under Secretary of Defense (Acquisition, Technology, and Logistics)/Joint Electronic Commerce Program Office.

ACTION: Notice.

In compliance with Section 3506(c)(2)(A) of the Paperwork Reduction Act of 1995, the Office of the Under Secretary of Defense (Acquisition, Technology and Logistics)/Joint Electronic Commerce Program Office, announces the proposed extension of a public information collection and seeks public comment on the provisions thereof. The Department of Defense (DoD) invites comments on (a) whether the proposed collection of information is necessary for the proper performance of the functions of DoD, including whether the information shall have practical utility; (b) the accuracy of the estimate of the burden of the proposed information collection; (c) ways to enhance the quality, utility, and clarity of the information to be collected; and (d) ways to minimize the burden of the information collection on respondents, including through the use of automated collection techniques or other forms of information technology. The Office of Management and Budget (OMB) has approved this information collection for use through November 30, 2000. DoD proposes that OMB approve an extension of the information collection requirement, to expire 3 years after the approval date.

DATES: Consideration will be given to all comments received by October 2, 2000.

ADDRESSES: Interested parties should submit written comments and recommendations on the proposed information collection to: Joint Electronic Commerce Program Office, Headquarters, Defense Logistics Agency, 8725 John J. Kingman Road, Attention: Ms. J. Lisa Romney, Ft. Belvoir, VA, 22060-6205. E-mail comments submitted via the Internet should be addressed to: lisa romney@hq.dla.mil.

FOR FURTHER INFORMATION CONTACT: To request further information on the proposed information collection, please write to the above address or call Ms. J. Lisa Romney at (703) 767-6920.

Title, Associated Form, and OMB Number: Central Contractor Registration (CCR), OMB Control Number 0704-0400.

Needs and Uses: The CCR provides a single point of entry for vendors that want to do business with the DoD. As of June 1, 1998, both current and potential DoD vendors are required to register in the CCR in order to do business with the DoD if the contract solicitation occurred after May 31, 1998. Vendors are required to complete a one-time registration to provide basic information relevant to procurement and financial transactions. Vendors must update or renew their registration annually to maintain an active status. The CCR validates the vendor's information and electronically shares the secure and encrypted data with the Defense Finance and Accounting Service (DFAS) to facilitate paperless payments through electronic funds transfer (EFT). Additionally, CCR shares the data with several government procurement and electronic business systems.

Affected Public: Businesses or Other For-Profit; Not-For-Profit Institutions

Annual Burden Hours: 300,000

Number of Respondents: 300,000

Responses to Respondents: 1

Average Burden per Response: 1 hour

Frequency: On Occasion

SUPPLEMENTARY INFORMATION:

Summary of Information Collection

In October 1993, the President issued a memorandum that mandated the Government reform its acquisition processes. Subsequently, the Federal Acquisition Streamlining Act (FASA) of 1994 was passed, requiring the establishment of a “single face to industry.” To accomplish this, DoD identified a centralized, electronic registration process known as Central Contractor Registration (CCR) as the single point of entry for vendors that want to do business with the DoD. To this end, Defense Federal Acquisition Regulation Supplement (DFARS), Subpart 204.7300, requires vendors to register in the CCR to conduct business with the DoD. Prospective vendors must be registered in CCR prior to the award of a contract, basic agreement, basic ordering agreement, or blanket purchase agreement, unless the award results from a solicitation issued on or before May 31, 1998.

Dated: July 26, 2000.
Patricia L. Toppings,
Alternate OSD Federal Register Liaison Officer, Department of Defense.

[FR Doc. 00-19417 Filed 8-1-00; 8:45 am]

BILLING CODE 5001-10-M